NATIONAL SCIENCE FOUNDATION

Notice of Permit Applications Received Under the Antarctic Conservation Act of 1978

AGENCY: National Science Foundation.

ACTION: Notice of Permit Applications Received under the Antarctic Conservation Act of 1978, Public Law 95-541.

SUMMARY: The National Science Foundation (NSF) is required to publish a notice of permit applications received to conduct activities regulated under the Antarctic Conservation Act of 1978. NSF has published regulations under the Antarctic Conservation Act at Title 45 Part 670 of the Code of Federal Regulations. This is the required notice of permit applications received.

DATES: Interested parties are invited to submit written data, comments, or views with respect to this permit application by October 24, 2014. This application may be inspected by interested parties at the Permit Office, address below.

ADDRESSES: Comments should be addressed to Permit Office, Room 755, Division of Polar Programs, National Science Foundation, 4201 Wilson Boulevard, Arlington, Virginia 22230.

FOR FURTHER INFORMATION CONTACT: Li Ling Hamady, ACA Permit Officer, at the above address or ACApermits@nsf.gov or (703) 292-7149.

SUPPLEMENTARY INFORMATION: The National Science Foundation, as directed by the Antarctic Conservation Act of 1978 (Pub. L. 95-541), as amended by the Antarctic Science, Tourism and Conservation Act of 1996, has developed regulations for the establishment of a permit system for various activities in Antarctica and designation of certain animals and certain geographic areas a requiring special protection. The regulations establish such a permit system to designate Antarctic Specially Protected Areas.

Application Details

Permit Application: 2015-008

1. Applicant

Dr. Michael J. Polito, Department of Oceanography and Coastal Sciences, Louisiana State University, 1002-Y Energy, Coast & Environment Building, Baton Rouge, LA 70803

Activity for Which Permit Is Requested: Take, Import; The applicant intends to opportunistically obtain small samples of blood (1mL), and body and tail feathers from Macaroni, Gentoo, Chinstrap, and Adélie penguins from breeding sites in the South Orkneys, South Shetland, and Antarctic Peninsula regions while based aboard a commercial tour ship. These samples will be used for genetic and stable isotope studies to help interpret migratory connectivity and diet. Up to one site for Macaroni penguins, up to six sites each for Chinstrap and Adélie penguins, and up to eight sites for Gentoos will be sampled with up to 20 individuals sampled per site. Samples will be sent back to the USA for analysis.

Location: Sites in the South Orkneys, South Shetland, and Antarctic Peninsula regions.

Dates: 1 November 2014 through 31 September 2015.

Nadene G. Kennedy,
Polar Coordination Specialist, Division of Polar Programs.

[FR Doc. 2014-22710 Filed 9-23-14; 8:45 am]

BILLING CODE 7555-01-P